INTERNATIONAL TRADE COMMISSION

[Investigation No. 332-499]

Property and Casualty Insurance Services: Competitive Conditions In Foreign Markets

AGENCY: United States International Trade Commission.

ACTION: Institution of investigation and scheduling of hearing.

SUMMARY: Following receipt of a request on June 18, 2008 from the Office of the United States Trade Representative (USTR), the U.S. International Trade Commission (Commission) instituted investigation No. 332-499, Property and Casualty Insurance Services: Competitive Conditions in Foreign Markets, under section 332(g) of the Tariff Act of 1930 (19 U.S.C. 1332(g)).

Important Dates

September 2, 2008—Deadline for filing requests to appear at the public hearing.

September 5, 2008—Deadline for filing pre-hearing briefs and statements.

September 23, 2008—Public hearing.

September 30, 2008—Deadline for filing post-hearing briefs and submissions.

October 7, 2008—Deadline for filing all other written statements.

March 18, 2009—Transmittal of final report to the Office of the U.S. Trade Representative.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at http://www.usitc.gov/secretary/edis.htm.

FOR FURTHER INFORMATION CONTACT: Project Leader Eric Forden (202-205-3235 or eric.forden@usitc.gov), Deputy Project Leader Jeremy Wise (202-205-3190 or jeremy.wise@usitc.gov), or Chief, Services Division, Richard Brown (202-205-3438 or richard.brown@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet site (http://www.usitc.gov). Persons with mobility impairments who will need special assistance in gaining access to the Commission should contact the Office of the Secretary at 202-205-2000.

Background: As requested by the USTR, the Commission will conduct an investigation and prepare a report on property and casualty (P&C) insurance markets that (1) provides an overview of global and selected foreign markets for P&C insurance services, including factors affecting supply and demand in these markets; (2) examines the nature and extent of cross-border trade and affiliate sales in the global market for P&C insurance services; and (3) identifies and examines policies and practices that affect U.S. firms' access to, and competitiveness in, foreign markets for such services. In terms of geographic coverage, the USTR has requested that the Commission include examples of both developed- and developing-country markets. The USTR requested that the Commission deliver its report by March 18, 2009.

Public Hearing: A public hearing in connection with this investigation will be held at the U.S. International Trade Commission Building, 500 E Street SW., Washington, DC, beginning at 9:30 a.m. on September 23, 2008. Requests to appear at the public hearing should be filed with the Secretary, no later than 5:15 p.m., September 2, 2008, in accordance with the requirements in the “Submissions” section below. All pre-hearing briefs and statements should be filed no later than 5:15 p.m., September 5, 2008; and all post-hearing briefs and statements should be filed no later than 5:15 p.m., September 30, 2008. In the event that, as of the close of business on September 2, 2008, no witnesses are scheduled to appear at the hearing, the hearing will be canceled. Any person interested in attending the hearing as an observer or nonparticipant may call the Secretary to the Commission (202-205-2000) after September 2, 2008, for information concerning whether the hearing will be held.

Written Submissions: In lieu of or in addition to participating in the hearing, interested parties are invited to submit written statements concerning this investigation. All written submissions should be addressed to the Secretary, and should be received no later than 5:15 p.m., October 7, 2008. All written submissions must conform with the provisions of section 201.8 of the Commission's Rules of Practice and Procedure (19 CFR 201.8). Section 201.8 requires that a signed original (or a copy so designated) and fourteen (14) copies of each document be filed. In the event that confidential treatment of a document is requested, at least four (4) additional copies must be filed, in which the confidential information must be deleted (see the following paragraph for further information regarding confidential business information). The Commission's rules authorize filing submissions with the Secretary by facsimile or electronic means only to the extent permitted by section 201.8 of the rules (see Handbook for Electronic Filing Procedures, http://www.usitc.gov/secretary/fed_reg_notices/rules/documents/handbook_on_electronic_filing.pdf ). Persons with questions regarding electronic filing should contact the Secretary (202-205-2000). Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties.

In its request letter, the USTR stated that it intends to make the Commission's report available to the public in its entirety. As a result, the Commission will not include any confidential business information or national security classified information in the report it sends to the USTR. Any confidential business information received by the Commission during the course of this investigation and used in preparing this report will not be published in a manner that would reveal the identities of individuals or companies supplying such information.

Issued: August 13, 2008.
By order of the Commission.
William R. Bishop,
Acting Secretary to the Commission.

[FR Doc. E8-19117 Filed 8-18-08; 8:45 am]

BILLING CODE 7020-02-P